Title 3—

The President

Proclamation 8170 of August 30, 2007

National Preparedness Month, 2007

By the President of the United States of America

A Proclamation

National Preparedness Month is an opportunity to raise awareness about the importance of emergency preparedness and to encourage all Americans to better prepare their homes and communities for emergencies.

Protecting America's homeland and citizens is the shared responsibility of the entire Nation. Individuals can prepare themselves and their families for emergencies by taking simple steps such as organizing an emergency supply kit, making a personal preparedness plan, becoming informed about different threats, and getting involved in preparing their community. These activities create a culture of preparedness and can help save lives.

My Administration continues to improve our Nation's ability to prepare for emergencies. The Department of Homeland Security is working with other Federal, State, and local government organizations, as well as the private sector, to prevent, respond to, and recover from all types of emergencies. Together, Americans can significantly enhance the level of national preparedness to further safeguard our communities and secure our homeland.

This month is also an opportunity to pay tribute to America's first responders who put themselves at risk for the safety of their fellow citizens. These brave police officers, firefighters, and emergency service personnel exemplify the compassion and commitment that help strengthen our country. We will be forever grateful for their service and sacrifice.

During National Preparedness Month, I encourage all Americans to get involved in their community's preparedness efforts. Citizens may visit ready.gov and citizencorps.gov to learn more about emergency preparedness and ways to take action.

NOW, THEREFORE, I, GEORGE W. BUSH, President of the United States of America, by virtue of the authority vested in me by the Constitution and laws of the United States, do hereby proclaim September 2007 as National Preparedness Month. I call upon the people of the United States to recognize the importance of preparing for potential emergencies and to observe this month by participating in appropriate events, activities, and preparedness programs.

IN WITNESS WHEREOF, I have hereunto set my hand this thirtieth day of August, in the year of our Lord two thousand seven, and of the Independence of the United States of America the two hundred and thirty-second.

[FR Doc. 07-4371

Filed 9-4-07; 8:45 am]

Billing code 3195-01-P